DEPARTMENT OF LABOR

Employment and Training Administration

[TA-W-60,993]

Guardian Automotive, a Subsidiary of Guardian Industries Corporation, Including On-Site Leased Workers From Kelly Services and Manpower Services, LaGrange, GA; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and a Negative Determination Regarding Eligibility to Apply for Alternative Trade Adjustment Assistance on March 26, 2007, applicable to workers of Guardian Automotive, a subsidiary of Guardian Industries Corporation, including on-site leased workers from Kelly Services, LaGrange, Georgia. The notice was published in the Federal Register on April 10, 2007 (72 FR 17936).

At the request of the State agency, the Department reviewed the certification for workers of the subject firm. The workers are engaged in the production of automotive trim.

New information shows that in August 2008, the subject firm switched its on-site leased worker contract from Kelly Services to Manpower Services. The Department has determined that workers leased from Manpower Services were sufficiently under the control of Guardian Automotive, a subsidiary of Guardian Industries Corporation to be considered leased workers.

Based on these findings, the Department is amending this certification to include workers leased from Manpower Services working on-site at the LaGrange, Georgia location of the subject firm.

The intent of the Department's certification is to include all workers employed at Guardian Automotive, a subsidiary of Guardian Industries Corporation, LaGrange, Georgia who are secondarily affected.

The amended notice applicable to TA-W-60,993 is hereby issued as follows:

“All workers of Guardian Automotive, a subsidiary of Guardian Industries Corporation, including on-site leased workers of Kelly Services and Manpower Services, LaGrange, Georgia, who became totally or partially separated from employment on or after February 14, 2006, through March 26, 2009, are eligible to apply for adjustment assistance under Section 223 of the Trade Act of 1974.”

I further determine that all workers of Guardian Automotive, a subsidiary of Guardian Industries Corporation, including on-site leased workers from Kelly Services and Manpower Services, LaGrange, Georgia, are denied eligibility to apply for alternative trade adjustment assistance under Section 246 of the Trade Act of 1974.

Signed at Washington, DC, this 20th day of November 2008.
Linda G. Poole,
Certifying Officer, Division of Trade Adjustment Assistance.

[FR Doc. E8-28353 Filed 11-28-08; 8:45 am]

BILLING CODE 4510-FN-P